DEPARTMENT OF TRANSPORTATION

Surface Transportation Board

[STB Finance Docket No. 35076]

City of Boise Railroad—Operation Exemption—The Boise Cutoff Rail Line in Ada County, ID

The City of Boise Railroad (the City), a noncarrier, has filed a verified notice of exemption under 49 CFR 1150.31 to operate an 18.2-mile line of railroad known as the Boise Cutoff between milepost 424.80 near Orchard and milepost 443.0 near Hillcrest, in Ada County, ID.¹

¹ The Boise Cutoff was formerly part of the Boise Subdivision of Union Pacific Railroad Company (UP). See, Union Pacific Railroad Company—Abandonment and Discontinuance of Trackage Rights Exemption—in Ada County, ID, STB Docket No. AB-33 (Sub-No. 137X) (STB served July 8, 1999). The City states that after abandonment, UP conveyed the Boise Cutoff to the City in 2000. The City did not believe at that time that it required Board authority or an exemption for its operation of the Boise Cutoff. The City now proposes to actively operate the Boise Cutoff.

The City certifies that its projected annual revenues as a result of this transaction will not result in the creation of a Class II or Class I rail carrier and further certifies that its projected annual revenues will not exceed $5 million. The transaction is scheduled to be consummated on or after September 26, 2007.

If the verified notice contains false or misleading information, the exemption is void ab initio. Petitions to revoke the exemption under 49 U.S.C. 10502(d) may be filed at any time. The filing of a petition to revoke will not automatically stay the transaction. Petitions for stay must be filed no later than September 19, 2007.

An original and 10 copies of all pleadings, referring to STB Finance Docket No. 35076, must be filed with the Surface Transportation Board, 395 E. Street, SW., Washington, DC 20423-0001. In addition, one copy of each pleading must be served on Thomas F. McFarland, P.C., 208 South LaSalle Street, Suite 1890, Chicago, IL 60604-1112.

Board decisions and notices are available on our Web site at http://www.stb.dot.gov.

Decided: August 31, 2007.
By the Board, David M. Konschnik, Director, Office of Proceedings.
Vernon A. Williams,
Secretary.

[FR Doc. E7-17730 Filed 9-11-07; 8:45 am]

BILLING CODE 4915-01-P